DEPARTMENT OF HEALTH AND HUMAN SERVICES

Health Care Financing Administration

[HCFA-9006-N]

Medicare and Medicaid Programs

AGENCY: Health Care Financing Administration (HCFA), HHS.

ACTION: Correction of HHS regulatory plan and unified agenda.

SUMMARY: This document corrects a technical error that appeared in the November 30, 2000 Regulatory Plan and the November 30, 2000 Unified Agenda. The Regulatory Plan included HHS-HCFA sequence number 57-Physicians' Referrals to Health Care Entities With Which They Have Financial Relationships—Phase II (HCFA-1810-FC) that concerns the physician referral provisions under section 1877 of the Social Security Act. This entry should not have been included in the Regulatory Plan because it was premature and inaccurate. We are withdrawing this item from the Regulatory Plan and also from the Unified Agenda, which cross-referenced the Regulatory Plan.

EFFECTIVE DATE: These corrections are effective December 27, 2000.

FOR FURTHER INFORMATION CONTACT: Joanne Sinsheimer, (410) 786-4620.

SUPPLEMENTARY INFORMATION: This notice withdraws HHS-HCFA Sequence Number 57-Physicians' Referrals to Health Care Entities With Which They Have Financial Relationships—Phase II (HCFA-1810-FC) from the Regulatory Plan that was published on November 30, 2000 (65 FR 73383) and from the Unified Agenda, also published on November 30, 2000 (65 FR 73838).

We are withdrawing this entry from the Regulatory Plan because the language was premature, inaccurate and not meant for publication in the Federal Register. Therefore, we are withdrawing HHS-HCFA sequence number 57 from the Regulatory Plan published on November 30, 2000 at 65 FR 73383 and sequence number 1260 from the Unified Agenda published on November 30, 2000 at 65 FR 73838, that cross-referenced this Regulatory Plan entry.

Authority: Sections 1871 and 1102 of the Social Security Act (42 U.S.C. 1395hh and 1302).

(Catalog of Federal Domestic Assistance Program No. 93.778, Medical Assistance Program; No. 93.773 Medicare—Hospital Insurance Program; and No. 93.774, Medicare-Supplementary Medical Insurance Program)
Dated: December 21, 2000.
Robert A. Berenson,
Acting Deputy Administrator, Health Care Financing Administration.

[FR Doc. 00-32994 Filed 12-22-00; 8:45 am]

BILLING CODE 4120-01-P